DEPARTMENT OF ENERGY

Federal Energy Regulatory Commission

[Docket No. ER02-1326-011, et al.]

PJM Interconnection, L.L.C., et al.; Electric Rate and Corporate Filings

November 18, 2004.

The following filings have been made with the Commission. The filings are listed in ascending order within each docket classification.

1. PJM Interconnection, L.L.C.

[Docket No. ER02-1326-011]

Take notice that on November 12, 2004, PJM Interconnection, L.L.C. (PJM) submitted an amendment to its report entitled “Compliance Report To The Federal Energy Regulatory Commission Docket No. ER02-1326-006 Assessment of PJM Load Response Programs” prepared by the PJM Market Monitoring Unit filed on November 1, 2004 and amended on November 3 and November 8, 2004.

Comment Date: 5 p.m. eastern time on December 3, 2004.

2. United Illuminating Company

[Docket No. ER03-31-008]

Take notice that on November 12, 2004, United Illuminating Company (United Illuminating) submitted an amendment to its October 29, 2004 compliance filing in Docket No. ER03-31-007.

Comment Date: 5 p.m. eastern time on December 3, 2004.

3. Hartford Steam Company

[Docket No. ER04-582-004]

Take notice that, on November 12, 2004, Hartford Steam Company submitted a compliance filing pursuant to the letter order issued by the Director of the Division of Tariffs and Market Development—South on September 10, 2004, in Docket Nos. ER04-582-000, et al.

Hartford Steam Company states that copies of the filing were served on parties on the official service list in this proceeding.

Comment Date: 5 p.m. eastern time on December 3, 2004.

4. Southern California Edison Company

[Docket No. ER05-205-000]

Take notice that on November 12, 2004, Southern California Edison Company (SCE) submitted for filing Service Agreement No. 129 under SCE's Electric Tariff, First Revised Volume No. 5, an Interconnection Facilities Agreement and Service Agreement No. 130 under SCE's Electric Tariff, First Revised Volume No. 5, a Service Agreement for Wholesale Distribution Service between SCE and the City of Corona, California (Corona). SCE states that the agreements specify the terms and conditions under which SCE will provide wholesale Distribution Service for up to 32 MW of power produced by the Corona Cogen Project and delivered to the ISO Grid at SCE's Mira Loma Substation, and for 2.5 MW of Wholesale Distribution Load.

SCE states that copies of this filing were served upon the Public Utilities Commission of the State of California and Corona.

Comment Date: 5 p.m. eastern time on December 3, 2004.

5. PJM Interconnection, L.L.C.

[Docket No. ER05-206-000]

Take notice that on November 12, 2004, PJM Interconnection, L.L.C. (PJM), submitted for filing an executed construction service agreement among PJM, FPL Energy Marcus Hook, L.P., and Delmarva Power & Light Company d/b/a Conectiv Power Delivery designated as Original Service Agreement No. 1193 under PJM's FERC Electric Tariff, Sixth Revised Volume No. 1. PJM requests an effective date of October 14, 2004.

PJM states that copies of this filing were served upon the parties to the agreement and the state regulatory commissions within the PJM region.

Comment Date: 5 p.m. eastern time on December 3, 2004.

6. Southern California Edison Company

[Docket No. ER05-207-000]

Take notice that on November 12, 2004, Southern California Edison Company (SCE) tendered for filing revisions to its Transmission Owner Tariff, FERC Electric Tariff, Second Revised Volume No. 6, Appendices I, II and III, to reflect the change in transmission rates resulting from the annual update of the Transmission Revenue Balancing Account Adjustment.

SCE states that copies of this filing were served upon the Public Utilities Commission of the State of California, the California Independent System Operator Corporation, all Participating Transmission Owners, the Cities of Azusa, Banning, Colton, Riverside, California, the Department of Water and Power of the City of Los Angeles, California, the City of Pasadena, California and all Scheduling Coordinators certified by the California Independent System Operator Corporation.

Comment Date: 5 p.m. eastern time on December 3, 2004.

7. PJM Interconnection, L.L.C.

[Docket No. ER05-208-000]

Take notice that on November 12, 2004, PJM Interconnection, L.L.C. (PJM), submitted for filing an executed interconnection service agreement among PJM, AC Landfill, LLC, and Atlantic city Electric Company d/b/a Conectiv Power Delivery designated as Original Service Agreement No. 1194 under PJM's FERC Electric Tariff, Sixth Revised Volume No. 1. PJM requests an effective date of October 14, 2004.

PJM states that copies of this filing were served upon the parties to the agreement and the state regulatory commissions within the PJM region.

Comment Date: 5 p.m. eastern time on December 3, 2004.

8. Reliant Energy Hunterstown, LLC

[Docket No. ER05-209-000]

Take notice that on November 12, 2004, Reliant Energy Hunterstown, LLC (Hunterstown) submitted for filing a notice of cancellation of its FERC Electric Tariff, Original Volume No. 1, with a proposed effective date of November 5, 2004.

Comment Date: 5 p.m. eastern time on December 3, 2004.

9. California Independent System Operator Corporation

[Docket No. ER05-210-000]

Take notice that on November 12, 2004, California Independent System Operator Corporation (ISO) tendered for filing Amendment No. 3 to the Interconnected Control Area Operating Agreement (ICAOA) between the ISO and Nevada Power Company (NEVP). The ISO states that the purpose of Amendment No. 3 is to incorporate requirements for the scheduling and delivery of non-regulation ancillary services into the ISO Control Area from the NEVP Control Area. The ISO requests an effective date of October 27, 2004.

The ISO states that this filing has been served on NEVP, the California Public Utilities Commission, and all entities on the official service lists for the original ICAOA in Docket No. ER00-2292-000, Amendment No. 1 to the ICAOA in Docket No. ER01-1995-000, and Amendment No. 2 to the ICAOA in Docket No. ER04-885-000.

Comment Date: 5 p.m. eastern time on December 3, 2004.

10. Delmarva Power & Light Company

[Docket No. ER05-211-000]

Take notice that on November 12, 2004, Delmarva Power & Light Company (Delmarva) tendered for filing a Notice of Cancellation of Delmarva's Rate Schedule FERC No. 125 terminating the rate schedule between Delmarva and Old Dominion Electric Cooperative (Old Dominion). Delmarva also tendered for filing PJM Interconnection, L.L.C. FERC Electric Tariff, Sixth Revised Volume No. 1, Original Service Agreement No. 1132, an amended executed Interconnection Agreement between Delmarva and Old Dominion (IA). Delmarva requests that the Commission allow the Cancellation Documents to become effective on September 30, 2004, and the IA to become effective on October 1, 2004.

Delmarva states that copies of the filing were served upon Old Dominion and the Delaware Public Service Commission.

Comment Date: 5 p.m. eastern time on December 3, 2004.

11. Cleco Power LLC

[ Docket No. ER05-212-000]

Take notice that on November 12, 2004, Cleco Power LLC (Cleco) tendered for filing proposed revisions to Attachment K (the Large Generator Interconnection procedures) of its Open Access Transmission Tariff to incorporate miscellaneous terms for inclusion in the pro forma agreements for feasibility studies system impact studies, facilities studies, and optional interconnection studies. Cleco requests an effective date of November 13, 2004.

Cleco states that a copy of this filing was served electronically on Cleco's transmission customers and on the Louisiana Public Service Commission.

Comment Date: 5 p.m. eastern time on December 3, 2004.

12. Midwest Independent Transmission System Operator, Inc.

[Docket No. ER05-213-000]

Take notice that on November 12, 2004 Midwest Independent System Operator, Inc. (Midwest ISO) and the Midwest ISO Transmission Owners submitted for filing proposed revisions to the Midwest ISO Open Access Transmission Tariff to accommodate Great River Energy as a new Transmission-Owning Member of the Midwest ISO. The Midwest ISO and the Midwest ISO Transmission Owners requests an effective date of December 1, 2004.

The Midwest ISO states that it has electronically served a copy of this filing, with attachments, upon all Midwest ISO Members, Member representatives of Transmission Owners and Non-Transmission Owners, as well as all state commissions within the region. In addition, Midwest ISO states that the filing has been posted to Midwest ISO's Web site at http://www.midwestiso.org under the heading “Filings to FERC” and that hard copies will be provided to any interested parties upon request.

Comment Date: 5 p.m. eastern time on December 3, 2004.

13. Select Energy, Inc., Select Energy New York, Inc.

[Docket Nos. ER05-220-000 and EC05-19-000]

Take notice that on November 15, 2004, Select Energy, Inc.(Select) and Select Energy New York, Inc. (SENY), (collectively, Applicants) submitted pursuant to section 203 of the Federal Power Act and Part 33 of the Commission's regulations, an application for authorization to implement a corporate reorganization. Applicants also filed a Notice of Cancellation of SENY's FERC Electric Tariff, Second Revised Volume No. 1, to be effective upon completion of the corporate reorganization. Applicants state that the merger will have no adverse effect on competition, rates or regulation.

Comment Date: 5 p.m. eastern time on December 6, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3363 Filed 11-29-04; 8:45 am]

BILLING CODE 6717-01-P